DEPARTMENT OF THE INTERIOR

Office of the Secretary

Privacy Act of 1974, as Amended; Notice of a New System of Records

AGENCY: Office of the Secretary, Interior.

ACTION: Notice of creation of a new system of records.

Department of the Interior is issuing a public notice of its intent to create the Department of the Interior system of records titled, “Office of Insular Affairs Programs.” The system will assist the Department of the Interior Office of Insular Affairs with overseeing programs in certain United States territories and increasing communication and economic development of the U.S. Insular Areas, including administering grants and scholarships, providing business, employment and entrepreneurial opportunities, and locating support and services for individuals and businesses in need. This newly established system will be included in the Department of the Interior's inventory of record systems.

DATES: Comments must be received by May 1, 2013. This new system will be effective May 1, 2013.

ADDRESSES: Any person interested in commenting on this new system of records may do so by: Submitting comments in writing to OS/NBC Privacy Act Officer, 1849 C Street NW., MIB Mail Stop 2650, Washington, DC 20240; hand-delivering comments to OS/NBC Privacy Act Officer, 1849 C Street NW., MIB Mail Stop 2650, Washington, DC 20240; or emailing comments to privacy@nbc.gov.

FOR FURTHER INFORMATION CONTACT: Director, Office of Insular Affairs, Department of the Interior, 1849 C Street NW., Mail Stop 2429 MIB, Washington, DC 20240, 202-208-4736.

SUPPLEMENTARY INFORMATION:

I. Background

The Department of the Interior (DOI)'s Office of Insular Affairs (OIA) is responsible for administering and overseeing programs in certain United States territories, including American Samoa, Guam, the Commonwealth of the Northern Mariana Islands, the U.S. Virgin Islands, and the Freely Associated States, which are comprised of the Republic of the Marshall Islands, the Federated States of Micronesia, and the Republic of Palau. OIA's programs include administering grant funds, awarding scholarships and identifying educational opportunities, promoting business opportunities, facilitating the distribution of information about island and government procurement resources, locating support and services for individuals and businesses in need, and assisting individuals in the Insular Areas with labor and immigration matters. DOI is creating the Office of Insular Affairs Programs system of records as a comprehensive system to cover all of the OIA's Privacy Act records with the exception of records collected and maintained by OIA's Federal Labor Ombudsman, which will be addressed under a separate system of records notice.

The Office of Insular Affairs Programs system of records will be used to manage OIA communications and gather necessary information to efficiently run and execute the duties and responsibilities of OIA, including promoting economic development initiatives and employment and educational opportunities, and assisting individuals and businesses in need.

The system of records will be effective as proposed at the end of the comment period (the comment period will end 40 days after the publication of this notice in the Federal Register), unless comments are received that would require a contrary determination. DOI will publish a revised notice if changes are made based upon a review of the comments received.

II. Privacy Act

The Privacy Act of 1974, as amended, embodies fair information principles in a statutory framework governing the means by which Federal agencies collect, maintain, use, and disseminate individuals' personal information. The Privacy Act applies to information that is maintained in a “system of records.” A “record” is any item, collection, or grouping of information about an individual that is maintained by an agency, including, but not limited to, his education, financial transactions, medical history, and criminal or employment history and that contains his name, or the identifying number, symbol, or other identifying particular assigned to the individual, such as a finger or voice print or a photograph. A “system of records” is a group of any records under the control of an agency for which information is retrieved by the name of an individual or by some identifying number, symbol or other identifying particular assigned to the individual. The Privacy Act defines an individual as a United States citizen or lawful permanent resident. As a matter of policy, DOI extends administrative Privacy Act protections to all individuals. Individuals may request access to their own records that are maintained in a system of records in the possession or under the control of DOI by complying with DOI Privacy Act Regulations, 43 CFR part 2.

The Privacy Act requires each agency to publish in the Federal Register a description denoting the type and character of each system of records that the agency maintains, identifying the routine uses that are contained in each system in order to make agency record keeping practices transparent, notifying individuals regarding the uses of their records, and assisting individuals to more easily find such records within the agency. Below is the description of the Office of Insular Affairs Programs system of records.

In accordance with 5 U.S.C. 552a(r), DOI has provided a reporting of this system of records to the Office of Management and Budget and to Congress.

III. Public Disclosure

Before including your address, phone number, email address or other personal identifying information in your comment, you should be aware that your entire comment—including your personal identifying information—may be made publicly available at any time. While you can ask us in your comment to withhold your personal identifying information from public review, we cannot guarantee that we will be able to do so.

David Alspach,
OS/NBC Privacy Act Officer.

SYSTEM OF RECORDS:

OS-21

SYSTEM NAME:

Office of Insular Affairs Programs.

SYSTEM CLASSIFICATION:

Unclassified.

SYSTEM LOCATION:

Records in this system are maintained by the Department of the Interior, Office of Insular Affairs, 1849 C Street NW., Mail Stop 2429 MIB, Washington, DC 20240. Records may also be located in regional offices providing services for Insular Affairs programs or initiatives.

CATEGORIES OF INDIVIDUALS COVERED BY THE SYSTEM:

The Office of Insular Affairs Programs system will cover individuals who communicate with OIA concerning: (1) Grants or scholarships, (2) business opportunities in the Insular Areas, including business owners and entrepreneurs, and (3) assistance with personal or economic needs or victim assistance, which could potentially include any citizen, resident or Insular area alien or visitor.

CATEGORIES OF RECORDS IN THE SYSTEM:

The system will cover three categories of records: (1) Records concerning individuals related to grants or scholarships offered or coordinated by OIA, (2) records relating to individuals pursuing business opportunities in the Insular Areas, and (3) records relating to individuals seeking assistance with personal or economic needs or victim assistance. This system contains individual information including, but not limited to: First name, last name, username, email address, home or work address, home or work phone number, other contact information, labor codes, eligibility criteria for Federal, state and local procurement opportunities, financial data, gender, age, date of birth, nationality, country of origin, country of citizenship, citizenship status, passport number, Customs and Border Protection I-94 Arrival and Departure Form number and associated data, educational history, and professional licensing information.

Many business and financial records are contained in the system, including some records concerning businesses seeking procurement and other entrepreneurial opportunities that do not include personal information about individuals. Records in this system are subject to the Privacy Act only to the extent they are about an individual within the meaning of the Act.

AUTHORITY FOR MAINTENANCE OF THE SYSTEM:

43 U.S.C. 1451, the Department of the Interior, Establishment; 5 U.S.C. 301, Departmental Regulations; U.S.C. Title 48, Territories and Insular Possessions.

ROUTINE USES OF RECORDS MAINTAINED IN THE SYSTEM, INCLUDING CATEGORIES OF USERS AND THE PURPOSES OF SUCH USES:

The DOI is creating the Office of Insular Affairs Programs system of records as a comprehensive system to cover all of OIA's Privacy Act records with the exception of records collected and maintained by OIA's Federal Labor Ombudsman, which will be addressed under a separate system of records notice. The Office of Insular Affairs Programs system of records will be used to manage OIA communications and gather necessary information to efficiently run and execute the duties and responsibilities of OIA including promoting economic development initiatives and employment and educational opportunities, and assisting individuals and businesses in need.

The U.S. Insular Areas include the Territories of Guam, American Samoa, the U.S. Virgin Islands and the Commonwealth of the Northern Mariana Islands (CNMI) as well as the Freely Associated States that are comprised of the Republic of the Marshall Islands, the Federated States of Micronesia and the Republic of Palau.

In addition to those disclosures generally permitted under 5 U.S.C. 552a(b) of the Privacy Act, disclosures outside DOI may be made as a routine use pursuant to 5 U.S.C. 552a(b)(3) as follows:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To the Executive Office of the President in response to an inquiry from that office made at the request of the subject of a record or a third party on that person's behalf, or for a purpose compatible with that for which the records are collected or maintained.

(4) To any criminal, civil or regulatory law enforcement authority (whether Federal, state, territorial, insular, local, tribal or foreign) when a record, either alone or in conjunction with other information, indicates a violation or potential violation of law—criminal, civil or regulatory in nature, and the disclosure is compatible with the purpose for which the records were compiled.

(5) To an official of another Federal agency to provide information needed in the performance of official duties related to reconciling or reconstructing data files or to enable that agency to respond to an inquiry by the individual to whom the record pertains.

(6) To Federal, state, territorial, insular, local, tribal, or foreign agencies that have requested information relevant or necessary to the hiring, firing or retention of an employee or contractor, or the issuance of a security clearance, license, contract, grant or other benefit, when the disclosure is compatible with the purpose for which the records were compiled.

(7) To representatives of the National Archives and Records Administration to conduct records management inspections under the authority of 44 U.S.C. 2904 and 2906.

(8) To state, territorial, insular and local governments, and tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) To appropriate agencies, entities and persons when:

(a) It is suspected or confirmed that the security or confidentiality of information in the system of records has been compromised; and

(b) The Department has determined that as a result of the suspected or confirmed compromise there is a risk of harm to economic or property interest, identity theft or fraud or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(11) To the Office of Management and Budget during the coordination and clearance process in connection with legislative affairs as mandated by OMB Circular A-19.

(12) To the Department of the Treasury to recover debts owed to the United States.

(13) To a consumer reporting agency if the disclosure requirements of the Debt Collection Act, as outlined at 31 U.S.C. 3711(e)(1), have been met.

(14) To an official of another Federal agency, territorial or insular area government to provide information needed in the performance of official duties related to employment authorization, immigration status and enforcement, Form I-94 Arrival Record validation, Pell Grant verification, the management and administration of Office of Insular Affairs programs or other relevant matter to enable the Office of Insular Affairs to respond to a request for assistance from the individual to whom the record pertains.

(15) To the news media, with the approval of the Public Affairs Officer in consultation with Counsel and the Senior Agency Official for Privacy, to provide recognition of the achievements of individuals receiving a grant, scholarship, or business opportunity promoted by OIA.

(16) After OIA makes a finding of fraud, impropriety, deceit or misrepresentation by an individual related to a business opportunity, grant, or scholarship promoted by OIA, disclosure may be made to businesses or educational institutions or other third parties that have been the recipients of fraudulent or deceitful information or have been the victims of impropriety, where disclosure will assist in preventing further harm from fraud or deceit. Such disclosures will only be made when OIA determines that release of the specific information in the context of a particular case would not constitute an unwarranted invasion of personal privacy.

POLICIES AND PRACTICES FOR STORING, RETRIEVING, ACCESSING, RETAINING AND DISPOSING OF RECORDS IN THE SYSTEM:

STORAGE:

Paper records are contained in file folders stored in file cabinets; electronic records are contained in removable drives, computers, magnetic disks, computer tapes, email and electronic databases.

RETRIEVABILITY:

Electronic information within this system may be retrieved by full-text search, and searches may be conducted using a variety of personal identifiers, such as individual's first name, last name, email address, or user name. Paper records are indexed using various indexing methods, which may include the use of a variety of personal identifiers, such as individual's first name, last name, email address, or user name.

SAFEGUARDS:

The records contained in this system are safeguarded in accordance with 43 CFR 2.226 and other applicable security rules and policies. Access to DOI network servers containing records in this system is limited to DOI personnel who have a need to know the information for the performance of their official duties and requires a valid username and password. DOI network servers are located in secured DOI facilities with access codes, security codes and security guards. Records are also located in computer systems located in regional offices providing services for Office of Insular Affairs programs. Personnel authorized to access systems must complete all Security, Privacy, and Records training and sign the DOI rules of behavior. Paper records are maintained in file cabinets located in secure DOI facilities under the control of authorized personnel.

RETENTION AND DISPOSAL:

Records are retained and disposed of in accordance with applicable Office of the Secretary (OS) records schedule or General Records Schedule (GRS) for each type of record. General management files, user files and Web site files are retained in accordance with OS records series 1200 and 1400. Records will be destroyed when no longer needed for agency business in accordance with records retention schedules, National Archives and Records Administration (NARA) guidelines and 384 Departmental Manual 1. A records retention schedule for Office of Insular Affairs Programs records not covered by the schedules listed above is being developed for submission to NARA. These records will be treated as permanent until the records are scheduled and approved by NARA.

SYSTEM MANAGER AND ADDRESS:

Director, Office of Insular Affairs, Department of the Interior, 1849 C Street NW., Mail Stop 2429 MIB, Washington, DC 20240; and designated offices providing services in the U.S. Insular Areas.

NOTIFICATION PROCEDURES:

An individual requesting notification of the existence of records on himself or herself should send a signed, written inquiry to the System Manager identified above. The request envelope and letter should be clearly marked “PRIVACY ACT INQUIRY.” A request for notification must meet the requirements of 43 CFR 2.235.

RECORDS ACCESS PROCEDURES:

An individual requesting access to records on himself or herself should send a signed, written inquiry to the System Manager identified above. The request envelope and letter should be clearly marked “PRIVACY ACT REQUEST FOR ACCESS.” The request letter should describe the records sought as specifically as possible. A request for access must meet the requirements of 43 CFR 2.238.

CONTESTING RECORDS PROCEDURES:

An individual requesting corrections or contesting information contained in his or her records must send a signed, written request to the System Manager identified above. A request for corrections or removal must meet the requirements of 43 CFR 2.246.

RECORD SOURCE CATEGORIES:

Records in the system are obtained from DOI and other Federal officials, state, territorial and local government officials, non-governmental organizations, private parties, business and other entities, entrepreneurs, procurement officials, and individual members of the public who communicate or interact with OIA.

EXEMPTIONS CLAIMED FOR THE SYSTEM:

None.

[FR Doc. 2013-06579 Filed 3-21-13; 8:45 am]

BILLING CODE 4310-RK-P